DEPARTMENT OF TRANSPORTATION

Federal Aviation Administration

14 CFR Part 39

[Docket No. FAA-2024-0773; Project Identifier MCAI-2023-00256-R]

RIN 2120-AA64

Airworthiness Directives; Leonardo S.p.a. Helicopters

AGENCY: Federal Aviation Administration (FAA), DOT.

ACTION: Notice of proposed rulemaking (NPRM).

SUMMARY: The FAA proposes to supersede Airworthiness Directive (AD) 2021-22-05, which applies to all Leonardo S.p.a. (Leonardo) Model A119 and AW119 MKII helicopters. AD 2021-22-05 requires repetitively inspecting certain torque tube assemblies for any deficiency and corrective action if necessary, and replacing any affected part with a serviceable part, which is terminating action for the repetitive inspections. AD 2021-22-05 was prompted by reports of abnormal play on the collective torque tube on two Leonardo Model AW119 MKII helicopters, which were due to an erroneous manufacturing process. Since the FAA issued AD 2021-22-05, it was discovered that additional torque tube assemblies are subject to the unsafe condition. This proposed AD would retain certain requirements specified in AD 2021-22-05, reduce the applicability to include helicopters with only affected part-numbered collective torque tube assemblies, reduce the inspection intervals, and remove the previously approved terminating action as specified in a European Union Aviation Safety Agency (EASA) AD, which is proposed for incorporation by reference. The FAA is proposing this AD to address the unsafe condition on these products.

DATES: The FAA must receive comments on this NPRM by May 28, 2024.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-0773; or in person at Docket Operations between 9 a.m. and 5 p.m., Monday through Friday, except Federal holidays. The AD docket contains this NPRM, the mandatory continuing airworthiness information (MCAI), any comments received, and other information. The street address for Docket Operations is listed above.

Material Incorporated by Reference:

• For EASA material identified in this NPRM, contact EASA, Konrad-Adenauer-Ufer 3, 50668 Cologne, Germany; telephone +49 221 8999 000; email ADs@easa.europa.eu; internet easa.europa.eu. You may find the EASA material on the EASA website at ad.easa.europa.eu.

• You may view this material at the FAA, Office of the Regional Counsel, Southwest Region, 10101 Hillwood Pkwy., Room 6N-321, Fort Worth, TX 76177. For information on the availability of this material at the FAA, call (817) 222-5110. The EASA material is also available at regulations.gov under Docket No. FAA-2024-0773.

Other Related Service Information: For Leonardo service information identified in this NPRM, contact Leonardo S.p.A., Emanuele Bufano, Head of Airworthiness, Viale G. Agusta 520, 21017 C. Costa di Samarate (Va) Italy; telephone (+39) 0331-225074; fax (+39) 0331-229046; or at customerportal.leonardocompany.com/en-US/. You may also view this service information at the FAA contact information under Material Incorporated by Reference above.

FOR FURTHER INFORMATION CONTACT: Sungmo Cho, Aviation Safety Engineer, FAA,1600 Stewart Ave., Suite 410, Westbury, NY 11590; phone: (781) 238-7241; email: Sungmo.D.Cho@faa.gov.

SUPPLEMENTARY INFORMATION:

Comments Invited

The FAA invites you to send any written relevant data, views, or arguments about this proposal. Send your comments to an address listed under ADDRESSES. Include “Docket No. FAA-2024-0773; Project Identifier MCAI-2023-00256-R” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Sungmo Cho, Aviation Safety Engineer, FAA, 1600 Stewart Ave., Suite 410, Westbury, NY 11590; phone: (781) 238-7241; email: Sungmo.D.Cho@faa.gov. Any commentary that the FAA receives which is not specifically designated as CBI will be placed in the public docket for this rulemaking.

Background

The FAA issued AD 2021-22-05, Amendment 39-21778 (86 FR 67301, November 26, 2021) (AD 2021-22-05), for all Leonardo Model A119 and AW119 MKII helicopters. AD 2021-22-05 was prompted by MCAI originated by EASA, which is the Technical Agent for the Member States of the European Union. EASA issued EASA AD 2021-0096, dated March 31, 2021 (EASA AD 2021-0096), to address an unsafe condition on Leonardo S.p.A. Model A119 and AW119 MKII helicopters, all serial numbers. EASA AD 2021-0096 stated that there were reports of abnormal play on the collective torque tube on two Model AW119 MKII helicopters. Investigations revealed that these events were due to an erroneous manufacturing process, affecting certain collective torque tube assemblies; those affected batch numbers were identified. Leonardo Model A119 helicopters are similar in design and may be subject to the same unsafe condition revealed on the Model AW119 MKII helicopters.

AD 2021-22-05 requires repetitive inspections of certain batches of affected torque tube assemblies for any deficiency and corrective action if necessary; and the replacement of any affected part with a serviceable part, which is terminating action for the repetitive inspections. The FAA issued AD 2021-22-05 to address abnormal play on the collective torque tube, which could result in reduced control of the helicopter, resulting in a forced landing and consequent damage to the helicopter and injury to occupants.

Actions Since AD 2021-22-05 Was Issued

Since AD 2021-22-05 was issued, there have been reports of abnormal play on additional torque tube assemblies. EASA, which is the Technical Agent for the Member States of the European Union, has issued superseding EASA AD 2023-0035, dated February 10, 2023 (EASA AD 2023-0035) (also referred to as the MCAI), to correct an unsafe condition for Leonardo Model A119 and AW119MKII helicopters up to serial number 14999 inclusive.

This proposed AD was prompted by additional occurrences of abnormal play on parts not previously included in the affected batches of torque tube assemblies. In light of this, Leonardo issued updated service information and EASA issued EASA AD 2023-0035 to reduce the applicability to include helicopters with only affected part-numbered collective torque tube assemblies, reduce the inspection intervals, and simplify the inspection method. The FAA is proposing this AD to address abnormal play on additional collective torque tubes, which could result in reduced control of the helicopter, resulting in a forced landing and consequent damage to the helicopter and injury to occupants. See EASA AD 2023-0035 for additional background information.

Related Service Information Under 1 CFR Part 51

EASA AD 2023-0035 requires repetitive inspections of the affected torque tube assemblies for any deficiency (i.e., any abnormal play or relative rotation) by marking the torque tube assembly and the collar and applying specific loads to determine if there is any play; and depending on the results of these inspections replacing the torque tube assembly with a serviceable part.

This material is reasonably available because the interested parties have access to it through their normal course of business or by the means identified in ADDRESSES.

Other Related Service Information

The FAA reviewed Leonardo Helicopters Alert Service Bulletin (ASB) No. 119-098, Revision B, dated January 25, 2023 (ASB 119-098, Revision B). This ASB specifies procedures for inspecting the collective torque tube assembly for abnormal play and specifies instructions for replacing affected parts.

FAA's Determination

These products have been approved by the aviation authority of another country and are approved for operation in the United States. Pursuant to the FAA's bilateral agreement with the State of Design Authority, it has notified the FAA of the unsafe condition described in the MCAI referenced above. The FAA is issuing this NPRM after determining that the unsafe condition described previously is likely to exist or develop on other products of the same type design.

Proposed AD Requirements in This NPRM

This proposed AD would reduce the applicability to include helicopters with only affected all part-numbered collective torque tube assemblies, retain certain requirements of AD 2021-22-05, and require accomplishing the actions specified in EASA AD 2023-0035, described previously, except for any differences identified as exceptions in the regulatory text of this proposed AD and except as discussed under “Differences Between this Proposed AD and the MCAI.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2023-0035 by reference in the FAA final rule. Service information required by EASA AD 2023-0035 for compliance will be available at regulations.gov by searching for and locating Docket No. FAA-2024-0773 after the FAA final rule is published.

Differences Between This Proposed AD and the MCAI or the Service Information

Where the service information referenced in paragraphs (1) and (2) of EASA AD 2023-0035 specifies “in case of doubt” apply marks on both sides of the torque tube assembly, move the pilot collective stick lever, and verify that the markings stay aligned, this proposed AD would require those actions.

Instead of paragraph (4) of EASA AD 2023-0035, which allows credit for the initial inspection and corrective action, as applicable for that helicopter, r accomplished before the effective date of EASA AD 2023-0035 using ASB 119-098, Revision B, this proposed AD would allow credit for the following, as applicable.

• The inspections required by paragraph (1) of EASA AD 2023-0035 that have been accomplished before the effective date of the final rule using Leonardo Helicopters Alert Service Bulletin (ASB) No. 119-098, dated March 13, 2019 (ASB 119-098, original issue); or Leonardo Helicopters ASB No. 119-098, Revision A, dated March 31, 2021 (ASB 119-098, Revision A), as applicable for the batch numbers identified within.

• Replacing an affected part, as defined in EASA AD 2023-0035, with a serviceable part, as defined in EASA AD 2023-0035, required by paragraph (3) of EASA AD 2023-0035 that has been accomplished before the effective date of the final rule using ASB 119-098, original issue; or ASB 119-098, Revision A.

Costs of Compliance

The FAA estimates that this AD, if adopted as proposed, would affect 184 helicopters of U.S. registry. Labor costs are estimated at $85 per work-hour. Based on these numbers, the FAA estimates the following costs to comply with this proposed AD.

Inspecting the torque tube assembly inspection would take about 1 work-hour for an estimated cost of $85 per inspection and $15,640 for the U.S. fleet per inspection cycle.

The FAA estimates the following costs to do any necessary replacements that would be required based on the results of the proposed inspections. The agency has no way of determining the number of helicopters that might need these repairs.

If required, replacing the torque tube assembly would take about 16 work-hours and parts would cost $10,000 for an estimated cost of $11,360 per torque tube assembly replacement.

The FAA has included all known costs in its cost estimate. According to the manufacturer, however, some of the costs of this proposed AD may be covered under warranty, thereby reducing the cost impact on affected operators.

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2021-22-05, Amendment 39-21778 (86 FR 67301, November 26, 2021); and

b. Adding the following new airworthiness directive:

Leonardo S.p.a.: Docket No. FAA-2024-0773; Project Identifier MCAI-2023-00256-R.

(a) Comments Due Date

The FAA must receive comments on this airworthiness directive (AD) by May 28, 2024.

(b) Affected ADs

This AD replaces AD 2021-22-05, Amendment 39-21778 (86 FR 67301, November 26, 2021).

(c) Applicability

This AD applies to Leonardo S.p.a. Model A119 and AW119 MKII helicopters, certificated in any category, as identified in European Union Aviation Safety Agency (EASA) AD 2023-0035, dated February 10, 2023 (EASA AD 2023-0035).

(d) Subject

Joint Aircraft System Component (JASC) Code 6700: Rotorcraft Flight Control.

(e) Unsafe Condition

This AD was prompted by reports of abnormal play on the collective torque tube assemblies. The FAA is issuing this AD to address this unsafe condition which could result in reduced control of the helicopter, resulting in a forced landing and consequent damage to the helicopter and injury to occupants.

(f) Compliance

Comply with this AD within the compliance times specified, unless already done.

(g) Requirements

Except as specified in paragraphs (h) and (i) of this AD: Comply with all required actions and compliance times specified in, and in accordance with EASA AD 2023-0035.

(h) Exceptions to EASA AD 2023-0035

(1) Where EASA AD 2023-0035 requires compliance in terms of flight hours, this AD requires using hours time-in-service.

(2) Where EASA AD 2023-0035 refers to April 14, 2021 (the effective date of EASA AD 2021-0096, dated March 31, 2021), this AD requires using January 3, 2022 (the effective date of AD 2021-22-05).

(3) Where EASA AD 2023-0035 refers to its effective date, this AD requires using the effective date of this AD.

(4) Where the service information referenced in paragraphs (1) and (2) of EASA AD 2023-0035 specifies “in case of doubt” apply marks on both sides of the torque tube assembly, move the pilot collective stick lever, and verify that the markings stay aligned, this AD requires those actions.

(5) Instead of the credit allowed in paragraph (4) of EASA AD 2023-0035, you may take credit for the following in paragraphs (h)(5)(i) and (ii) of this AD, as applicable.

(i) The inspections required by paragraph (1) of EASA AD 2023-0035 that have been accomplished before the effective date of this AD using Leonardo Helicopters Alert Service Bulletin (ASB) No. 119-098, dated March 13, 2019 (ASB 119-098, original issue) but this credit is limited to the torque tube assembly batch numbers identified in ASB 119-098, original issue; or Leonardo Helicopters ASB No. 119-098, Revision A, dated March 31, 2021 (ASB 119-098, Revision A) but this credit is limited to the torque tube assembly batch numbers identified in ASB 119-098, Revision A.

(ii) Replacing an affected part, as defined in EASA AD 2023-0035, with a serviceable part, as defined in EASA AD 2023-0035, required by paragraph (3) of EASA AD 2023-0035 that has been accomplished before the effective date of this AD using ASB 119-098, original issue; or ASB 119-098, Revision A.

(6) Where the service information referenced in EASA AD 2023-0035 specifies to return a torque tube assembly to the manufacturer, this AD does not include that requirement.

(7) This AD does not adopt the “Remarks” section of EASA AD 2023-0035.

(i) No Reporting Requirement

Although the service information referenced in EASA AD 2023-0035 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the International Validation Branch, send it to the attention of the person identified in paragraph (k) of this AD or email to 9-AVS-AIR-730-AMOC@faa.gov. If mailing information, also submit information by email.

(2) Before using any approved AMOC, notify your appropriate principal inspector, or lacking a principal inspector, the manager of the local Flight Standards District Office/certificate holding district office.

(k) Additional Information

For more information about this AD, contact Sungmo Cho, Aviation Safety Engineer, FAA, 1600 Stewart Ave., Suite 410, Westbury, NY 11590; phone: (781) 238-7241; email: Sungmo.D.Cho@faa.gov.

(l) Material Incorporated by Reference

(1) The Director of the Federal Register approved the incorporation by reference of the service information listed in this paragraph under 5 U.S.C. 552(a) and 1 CFR part 51.

(2) You must use this service information as applicable to do the actions required by this AD, unless the AD specifies otherwise.

(i) European Union Aviation Safety Agency (EASA) AD 2023-0035 dated February 10, 2023.

(ii) [Reserved]

(3) For EASA AD 2023-0035, contact EASA, Konrad-Adenauer-Ufer 3, 50668 Cologne, Germany; telephone +49 221 8999 000; email ADs@easa.europa.eu; internet easa.europa.eu. You may find the EASA material on the EASA website at ad.easa.europa.eu.

(4) You may view this service information at the FAA, Office of the Regional Counsel, Southwest Region, 10101 Hillwood Pkwy., Room 6N-321, Fort Worth, TX 76177. For information on the availability of this material at the FAA, call (817) 222-5110.

(5) You may view this material at the National Archives and Records Administration (NARA). For information on the availability of this material at NARA, visit www.archives.gov/federal-register/cfr/ibr-locations or email: fr.inspection@nara.gov.

Issued on March 27, 2024.
Victor Wicklund,
Deputy Director, Compliance & Airworthiness Division, Aircraft Certification Service.

[FR Doc. 2024-07489 Filed 4-11-24; 8:45 am]

BILLING CODE 4910-13-P